COMMITTEE FOR PURCHASE FROM PEOPLE WHO ARE BLIND OR SEVERELY DISABLED

Procurement List; Proposed Addition

AGENCY: Committee for Purchase From People Who Are Blind or Severely Disabled.

ACTION: Proposed addition to the procurement list; reopening of comment period.

SUMMARY: We are reopening the comment period for the addition to the Procurement List of vegetable oil (domestic) to be furnished to the Federal government by a nonprofit agency employing persons who are blind or have other severe disabilities. In this document, we are clarifying the Federal government requirement for this product. This action will allow interested persons additional time to prepare and submit comments.

DATES: Submit your written comments on this action on or before March 6, 2005.

ADDRESSES: Send your comments on this action to the Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail skennerly@jwod.gov.

SUPPLEMENTARY INFORMATION: On December 10, 2004, we published in the Federal Register (69 FR 71777-71778) a notice to add five products and one service to the Procurement List, and to delete one service from the Procurement List. We solicited public comments on these actions for 30 days, ending January 9, 2005.

Since the publication of the notice, we have determined that it is necessary to clarify the Federal government requirement for one of the products to be added: Vegetable Oil (Domestic), 10 percent of U.S. Department of Agriculture (USDA) Requirement, 8945-00-NSH-0002; NPA: Advocacy and Resources Corporation, Cookeville, Tennessee; Contracting Activity: USDA, Farm Service Agency, Washington, DC. At this time the product would be provided exclusively as liquid oil (all types) in one gallon bottles in a quantity equivalent to 10% of the total government requirement for refined, packaged, vegetable oil for domestic purchases regardless of type or pack style according to CID A-A-20091, Salad Oil, Vegetable. If the Committee approves this addition, USDA will be required to procure the product from the specified nonprofit agency employing persons who are blind or have other severe disabilities.

As a result of this clarification, we are reopening the comment period for this proposed addition to the Procurement List for an additional 30 days from the date of publication of this notice. This will give interested persons additional time to respond. We will also consider all comments we received during the original comment period (December 10, 2004 through January 9, 2005).

Authority: 41 U.S.C. 46-48c.

Dated: February 1, 2005.
G. John Heyer,
General Counsel.

[FR Doc. 05-2202 Filed 2-3-05; 8:45 am]

BILLING CODE 6353-01-P